ENVIRONMENTAL PROTECTION AGENCY

[FRL-12891-01-R8]

Clean Air Act Operating Permit Program; Order on Petition for Objection to State Operating Permit for Young Gas Storage Company, Ltd.'s Young Compressor Station

AGENCY: Environmental Protection Agency (EPA).

ACTION: Notice of final order on petition.

SUMMARY: The Environmental Protection Agency (EPA) Administrator signed an order dated May 30, 2025, denying a petition dated October 15, 2024, from Center for Biological Diversity. The petition requested that the EPA object to a Clean Air Act (CAA) operating permit issued by the Colorado Department of Public Health and Environment's Air Pollution Control Division (Division) authorizing Young Gas Storage Company, Ltd. (Young Gas Storage) to operate the Young Compressor Station in Morgan County, Colorado.

FOR FURTHER INFORMATION CONTACT: Matthew Pollard, EPA Region 8, telephone number: (303) 312-6878, email address: pollard.matthew@epa.gov. The final order and petition are available electronically at: https://www.epa.gov/title-v-operating-permits/title-v-petition-database.

SUPPLEMENTARY INFORMATION: The EPA received a petition from the Center for Biological Diversity dated October 15, 2024, requesting that the EPA object to the issuance of operating permit no. 96OPMR177, issued by the Division to Young Gas Storage in Morgan County, Colorado. On May 30, 2025, the EPA Administrator issued an order denying the petition. The order itself explains the basis for the EPA's decision.

Sections 307(b) and 505(b)(2) of the CAA provide that a petitioner may request judicial review of those portions of an order that deny issues in a petition. Any petition for review shall be filed in the United States Court of Appeals for the appropriate circuit no later than October 6, 2025.

Cyrus Western,
Regional Administrator, Region 8.

[FR Doc. 2025-14981 Filed 8-6-25; 8:45 am]

BILLING CODE 6560-50-P